DEPARTMENT OF ENERGY

Federal Energy Regulatory Commission

[Project No. 15111-000]

Saugerties Community Hydro, LLC; Notice of Preliminary Permit Application Accepted for Filing and Soliciting Comments, Motions To Intervene, and Competing Applications

On March 15, 2021, Saugerties Community Hydro, LLC, filed an application for a preliminary permit, pursuant to section 4(f) of the Federal Power Act (FPA), proposing to study the feasibility of the Saugerties Community Hydro Project to be located at the Diamond Mills Dam on Esopus Creek in Saugerties, Ulster County, New York. The sole purpose of a preliminary permit, if issued, is to grant the permit holder priority to file a license application during the permit term. A preliminary permit does not authorize the permit holder to perform any land-disturbing activities or otherwise enter upon lands or waters owned by others without the owners' express permission.

The proposed project would consist of the following: (1) An 140-acre impoundment with a normal volume of 826 acre-feet at a normal maximum surface elevation of 46.5 feet National Geodetic Vertical Datum of 1929; (2) an existing 350-foot-long, 32-foot-high concrete gravity dam with a 340-foot-long spillway; (3) an existing 30-foot-long, 9-foot-high auxiliary spillway; (4) an existing 40-foot-long, 6-foot-diameter penstock; (5) two new 759-kilowatt horizontal Kaplan bulb turbines; (6) a new 15-foot-long, 10-foot-wide powerhouse; (7) a new three-phase, 13.2-kilovolt, 250-foot-long transmission line extending from the powerhouse to the proposed interconnection point west of the project; and (8) appurtenant facilities. The proposed project would have an annual generation of 6,000 megawatt-hours.

Applicant Contact: Joel Herm, Saugerties Community Hydro, LLC, P.O. Box 224, Rhinebeck, NY 12572; phone: 917-244-3607.

FERC Contact: Woohee Choi; email: woohee.choi@ferc.gov; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15111-000.

More information about this project, including a copy of the application, can be viewed or printed on the “eLibrary” link of the Commission's website at http://www.ferc.gov/docs-filing/elibrary.asp. Enter the docket number (P-15111) in the docket number field to access the document. For assistance, contact FERC Online Support.

Dated: May 10, 2021.
Kimberly D. Bose,
Secretary.

[FR Doc. 2021-10227 Filed 5-13-21; 8:45 am]

BILLING CODE 6717-01-P